SUSQUEHANNA RIVER BASIN COMMISSION

Notice of Actions Taken at December 17, 2009, Meeting

AGENCY: Susquehanna River Basin Commission.

ACTION: Notice of commission actions.

SUMMARY: At its regular business meeting on December 17, 2009, in Lancaster, Pennsylvania, the Commission held a public hearing as part of its regular business meeting. At the public hearing, the Commission: (1) Approved and tabled certain water resources projects; (2) rescinded approval for a water resources project; (3) approved settlement involving a water resources project; (4) tabled a request for extension from Sunnyside Ethanol, LLC until its March 2010 meeting; (5) adopted a revised Regulatory Program Fee Schedule to take effect on January 1, 2010; and (6) amended its comprehensive plan. Details concerning these and other matters addressed at the public hearing and business meeting are contained in the Supplementary Information section of this notice.

DATES: December 17, 2009.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) A report on Pennsylvania's current involvement in Marcellus Gas Drilling regulation and Chesapeake Bay clean-up by Pennsylvania Department of Environmental Protection Secretary John Hanger; (2) information on hydrologic conditions in the basin indicating a mostly normal status; (3) adoption of a resolution urging the U.S. Congress to provide adequate funding to the Susquehanna Flood Forecast & Warning System (SFFWS) for FY 2011; (4) adoption of a Water Resources Program for FY 2010/2011 along with a presentation by the Executive Director focusing on the Priority Management Area (PMA) of Coordination, Cooperation and Public Information; (5) adoption of a Low Flow Monitoring Plan designed to help the Commission follow low flow events occurring throughout the basin; (6) approval/ratification of several grants and contracts related to water resources management, approval of a contract for compensation and benefits review, and approval for deployment of the Remote Water Quality Monitoring Network project; and (7) acceptance of the Fiscal Year 2009 Annual Independent Audit Report. The Commission also heard counsel's report on legal matters affecting the Commission.

The Commission convened a public hearing and took the following actions:

Public Hearing—Compliance Actions

The Commission approved a settlement in lieu of civil penalties for the following project:

1. Tyco Electronics Corporation, Lickdale Facility—$25,000.

Public Hearing—Projects Approved

1. Project Sponsor and Facility: Chesapeake Appalachia, LLC (Susquehanna River—Hicks), Great Bend Township, Susquehanna County, Pa. Surface water withdrawal of up to 0.750 mgd.

2. Project Sponsor and Facility: East Resources, Inc. (Susquehanna River—Welles), Sheshequin Township, Bradford County, Pa. Surface water withdrawal of up to 0.850 mgd.

3. Project Sponsor and Facility: Eastern American Energy Corporation (West Branch Susquehanna River—Moore), Goshen Township, Clearfield County, Pa. Surface water withdrawal of up to 2.000 mgd.

4. Project Sponsor and Facility: Fortuna Energy Inc. (Fall Brook—Tioga State Forest C.O.P.), Ward Township, Tioga County, Pa. Surface water withdrawal of up to 0.999 mgd.

5. Project Sponsor and Facility: Fortuna Energy Inc. (Fellows Creek—Tioga State Forest C.O.P.), Ward Township, Tioga County, Pa. Surface water withdrawal of up to 0.999 mgd.

6. Project Sponsor and Facility: Fortuna Energy Inc. (Susquehanna River—Thrush), Sheshequin Township, Bradford County, Pa. Modification to increase surface water withdrawal from 0.250 mgd up to 2.000 mgd (Docket No. 20080909).

7. Project Sponsor and Facility: Montgomery Water and Sewer Authority, Clinton Township, Lycoming County, Pa. Groundwater withdrawal of up to 0.200 mgd from Well 2R.

8. Project Sponsor and Facility: Nissin Foods (USA) Co., Inc., East Hempfield Township, Lancaster County, Pa. Modification to increase consumptive water use from 0.090 mgd up to 0.150 mgd (Docket No. 20021021).

9. Project Sponsor and Facility: Southwestern Energy Company (Lycoming Creek—Reichenbach), Lewis Township, Lycoming County, Pa. Surface water withdrawal of up to 1.500 mgd.

10. Project Sponsor and Facility: Southwestern Energy Company (Lycoming Creek—Wascher), Lewis Township, Lycoming County, Pa. Surface water withdrawal of up to 1.500 mgd.

11. Project Sponsor and Facility: Southwestern Energy Company (Lycoming Creek—Schaefer), McIntyre Township, Lycoming County, Pa. Surface water withdrawal of up to 1.500 mgd.

12. Project Sponsor and Facility: Sunbury Generation LP, Monroe Township and Shamokin Dam Borough, Snyder County, Pa. Modification for use of up to 0.100 mgd of the approved surface water withdrawal by natural gas companies (Docket No. 20081222).

Public Hearing—Project Tabled

1. Project Sponsor and Facility: Southwestern Energy Company (Lycoming Creek—Parent), McIntyre Township, Lycoming County, Pa. Application for surface water withdrawal of up to 1.500 mgd.

Public Hearing—Rescission of Project Approval

1. Project Sponsor: Eastern American Energy Corporation. Pad ID: Whitetail Gun and Rod Club #1, ABR-20090418, Goshen Township, Clearfield County, Pa.

The Commission also authorized the executive director to hereafter rescind approvals granted under 18 CFR Section 806.22.

Public Hearing—Request for Extension From Sunnyside Ethanol, LLC

The Commission tabled until its March 2010 meeting a request from Sunnyside Ethanol, LLC (Docket No. 20061203), Curwensville Borough, Clearfield County, Pa., for a two-year extension of its three-year time limit to commence water use following Commission approval.

Public Hearing—Regulatory Program Fee Schedule

The Commission adopted a revised Regulatory Program Fee Schedule. The revisions adjust categorical fees, make format changes, and include a new compliance and monitoring fee table to apply only to projects approved or modified after December 31, 2009. Future revisions to the fee schedule will be made on a fiscal year basis.

Public Hearing—Comprehensive Plan Amendments

The Commission amended its comprehensive plan to include the newly adopted Water Resources Program (FY 2010/2011), the Low Flow Monitoring Plan, and all projects approved by the Commission during 2009. Future revisions to the comprehensive plan will be made on a fiscal year basis.

Authority: Pub. L. 91-575, 84 Stat. 1509 et seq., 18 CFR Parts 806, 807, and 808.

Dated: February 24, 2010.
Stephanie L. Richardson,
Secretary to the Commission.

[FR Doc. 2010-5418 Filed 3-11-10; 8:45 am]

BILLING CODE 7040-01-P